NATIONAL AERONAUTICS AND SPACE ADMINISTRATION

[Notice (15-116)]

Privacy Act of 1974; Privacy Act System of Records

AGENCY: National Aeronautics and Space Administration (NASA).

ACTION: Notice of proposed revisions to existing Privacy Act systems of records.

SUMMARY: Pursuant to the provisions of the Privacy Act of 1974 (5 U.S.C. 552a), the National Aeronautics and Space Administration is issuing public notice of its proposal to modify its previously noticed system of records. This notice publishes updates a Goddard Space Flight Center system of records as set forth below under the caption SUPPLEMENTARY INFORMATION.

DATES: Submit comments within 30 calendar days from the date of this publication. The changes will take effect at the end of that period, if no adverse comments are received.

ADDRESSES: Patti F. Stockman, Privacy Act Officer, Office of the Chief Information Officer, National Aeronautics and Space Administration Headquarters, Washington, DC 20546-0001, (202) 358-4787, NASA-PAOfficer@nasa.gov.

FOR FURTHER INFORMATION CONTACT: NASA Privacy Act Officer, Patti F. Stockman, (202) 358-4787, NASA-PAOfficer@nasa.gov.

SUPPLEMENTARY INFORMATION: Pursuant to the provisions of the Privacy Act of 1974, 5 U.S.C. 552a, and as part of its biennial System of Records review, NASA is making the following minor modifications of its Earth Observing System Data and Information System (EOSDIS) User Information/GSFC 51EUI: Correct a typo in the System Number, changing it from 51EUID to 51EUI; eliminate redundancies in System Location; update Categories of Records to reflect reduced information collected on individuals; insert a Purpose statement; clarify Routine Uses, Records Storage, Safeguards, and the listing of System Managers.

Renee P. Wynn,
NASA Chief Information Officer.

GSFC 51EUI

SYSTEM NAME:

Earth Observing System Data and Information System (EOSDIS) User Information.

SECURITY CLASSIFICATION:

None.

SYSTEM LOCATION:

Electronic records are maintained on secure NASA and NASA partner servers at NASA Locations 1, 4, 7, and 9-10, as set forth in Appendix A, and at the following contractor and other Federal agency Distributed Active Archive Centers (DAACs):

• Alaska Satellite Facility SAR Data Center DAAC, University of Alaska, Fairbanks, AK 99775-7320.

• Land Processes Distributed Active Archive Center (LP DAAC), Department of Interior: Earth Resources Observation and Science (EROS), 47914 252nd Street, Sioux Falls, SD 57918-0001.

• National Snow and Ice Data Center, University of Colorado, Boulder, CO 80309.

• Oak Ridge National Laboratory DAAC, Department of Energy, Oak Ridge, TN 37381-6407.

• Socioeconomic Data and Applications Center, Center for International Earth Science Information Network (CIESIN) at Columbia University, Palisades, NY 10964.

CATEGORIES OF INDIVIDUALS COVERED BY THE SYSTEM:

Individuals from the NASA, university, and research communities, as well as the general public, who request satellite data or other data products from any of the EOSDIS DAACs indicated above, or individuals who register to save their data search parameters for reuse in the future.

CATEGORIES OF RECORDS IN THE SYSTEM:

Records in this system consist of information obtained from individual users to establish user accounts that enable user notification of improved or altered data and services, as well as actual science data from EOSDIS, most often via on-line mechanisms. Records include an individual's name, email address, organizational affiliation, and country of residence.

AUTHORITY FOR MAINTENANCE OF THE SYSTEM:

51 U.S.C. 20113(a).

PURPOSE(S):

These records are used to establish user accounts that enable user notification of improved or altered data and services, as well as actual science data from EOSDIS, most often via on-line mechanisms.

ROUTINE USES OF RECORDS MAINTAINED IN THE SYSTEM, INCLUDING CATEGORIES OF USERS AND THE PURPOSE OF SUCH USES:

Any disclosures of information will be compatible with the purpose for which the Agency collected the information. The records and information in these records may be disclosed: (1) To government contractors conducting OMB-approved annual user satisfaction surveys collecting user feedback for aggregating reports to OMB and enabling NASA to improve its systems, processes, and services to the user community; (2) To the European Space Agency (ESA) through public posting on a NASA Web site of ESA scientific data users' names, email addresses, and organizational affiliation to achieve ESA member nation awareness of the breadth of their scientific data use (including ESA scientific data hosted by NASA); and (3) In accordance with NASA standard routine uses set forth in Appendix B.

POLICIES AND PRACTICES FOR STORING, RETRIEVING, ACCESSING, RETAINING, AND DISPOSING OF RECORDS IN THE SYSTEM:

STORAGE:

Records are stored electronically on secure servers.

RETRIEVABILITY:

User account records are typically indexed and retrieved by user's name.

SAFEGUARDS:

Electronic records are maintained on secure NASA servers and protected in accordance with all Federal standards and those established in NASA regulations at 14 CFR 1212.605. Approved security plans for each of the DAACs at NASA and contractor facilities have been established in accordance with the Federal Information Security Management Act of 2002 (FISMA) and OMB Circular A-130, Management of Federal Information Resources. The aggregation of these plans constitutes the security plan for EOSDIS. Authorized individuals will have access to the system only in accordance with approved authentication methods. With the exception of the records of ESA scientific data users' information posted in accordance with Routine Use (2) above, all user information is protected according to NASA guidelines for managing sensitive information.

RETENTION AND DISPOSAL:

The Earth Science Data and Information System (ESDIS) Project has a plan under configuration control according to which the original data are deleted in accordance with NASA Records Retention Schedule (NRRS) 2, Item 15A.3. The DAACs reauthorize specific users' information on an approved basis and user information is deleted when no longer needed in accordance with NRRS 2, Item 19A. Mailing lists containing user information are maintained in order to permit distribution of newsletters to users and are disposed of according to the NRRS 1, Item 88.

SYSTEM MANAGERS AND ADDRESSES:

System Manager: 423/Deputy Project Manager for Operations, ESDIS Project, Location 4 as set forth in Appendix A.

Subsystem Managers: DAAC Managers at each of the locations listed under System Location above; ECHO Manager, EMS Manager, and LANCE Manager, all in Code 423 at Location 4 as set forth in Appendix A.

NOTIFICATION PROCEDURE:

Individuals inquiring about their records should contact the System Manager at the address given above and provide their name and email address. The System Manager can be reached by phone at (301) 614-5048.

RECORD ACCESS PROCEDURE:

Individuals who wish to gain access to their records should submit their request in writing to the System Manager at the address provided or by phone at (301) 614-5048.

CONTESTING RECORD PROCEDURES:

The NASA regulations governing access to records and procedures for contesting the contents, and for appealing initial determinations are set forth in 14 CFR part 1212.

RECORD SOURCE CATEGORIES:

The information is received electronically or via telephone directly from users needing to obtain or access NASA's Earth science data products.

EXEMPTIONS CLAIMED FOR THE SYSTEM:

None.

[FR Doc. 2015-32290 Filed 12-22-15; 8:45 am]

BILLING CODE 7510-13-P